ENVIRONMENTAL PROTECTION AGENCY

[R01-OW-2023; FRL-11054-01-R1]

Program Requirement Revisions Related to the Public Water System Supervision Program for the State of Connecticut

AGENCY: Environmental Protection Agency (EPA).

ACTION: Notice.

SUMMARY: Notice is hereby given that the State of Connecticut is revising its approved Public Water System Supervision (PWSS) program to meet the requirements of the Safe Drinking Water Act (SDWA).

DATES: All interested parties may request a public hearing for any of the above EPA determinations. A request for a public hearing must be submitted by August 28, 2023 to the Regional Administrator at the address shown below. Frivolous or insubstantial requests for a hearing may be denied by the Regional Administrator.

However, if a substantial request for a public hearing is made by this date, a public hearing will be held. If no timely and appropriate request for a hearing is received, and the Regional Administrator does not elect to hold a hearing on his own motion, this determination shall become final and effective August 28, 2023.

Any request for a public hearing shall include the following information: (1) the name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4 p.m., Monday through Friday, at the following office(s) below. Please call to arrange a visit.

U.S. Environmental Protection Agency, Water Division, 5 Post Office Square, Suite 100, Boston, MA 02109-3912

For state-specific documents:

Connecticut Department of Public Health, Drinking Water Section, 410 Capital Avenue, Hartford, CT 06134

FOR FURTHER INFORMATION CONTACT: Stafford Madison, U.S. EPA-New England, Water Division, telephone (617) 918-1622. Madison.Stafford@epa.gov.

SUPPLEMENTARY INFORMATION: The State of Connecticut has adopted drinking water regulations for the Revised Total Coliform Rule (78 FR 10269) promulgated on February 13, 2013. After review of documentation submitted by the State, the Environmental Protection Agency (EPA) has determined that the State's rule is no less stringent than the corresponding federal regulation. EPA, therefore, intends to approve the state's PWSS program revision for this rule.

Authority: Section 1401 (42 U.S.C 300f) and Section 1413 (42 U.S.C 300g-2) of the Safe Drinking Water Act, as amended (1996), and (40 CFR 142.10) of the National Primary Drinking Water Regulations.

Dated: July 21, 2023.
David W. Cash,
Regional Administrator, EPA Region 1—New England.

[FR Doc. 2023-15959 Filed 7-26-23; 8:45 am]

BILLING CODE 6560-50-P